DEPARTMENT OF ENERGY

Federal Energy Regulatory Commission

Combined Notice of Filings #1

Take notice that the Commission received the following electric corporate filings:

Docket Numbers: EC21-104-000.

Applicants: Ensign Wind, LLC, Ensign Wind Energy, LLC, Minco Wind II, LLC, Minco Wind Energy II, LLC.

Description: Application for Authorization Under Section 203 of the Federal Power Act of Ensign Wind, LLC, et al.

Filed Date: 7/16/21.

Accession Number: 20210716-5082.

Comments Due: 5 p.m. ET 8/6/21.

Docket Numbers: EC21-105-000.

Applicants: Georgia Power Company.

Description: Application for Authorization Under Section 203 of the Federal Power Act of Georgia Power Company.

Filed Date: 7/16/21.

Accession Number: 20210716-5134.

Comments Due: 5 p.m. ET 8/6/21.

Take notice that the Commission received the following electric rate filings:

Docket Numbers: ER10-2414-014; ER19-1044-004.

Applicants: Old Trail Wind Farm, LLC, Telocaset Wind Power Partners, LLC.

Description: Notice of Change in Status of Old Trail Wind Farm, LLC, et al.

Filed Date: 7/16/21.

Accession Number: 20210716-5110.

Comments Due: 5 p.m. ET 8/6/21.

Docket Numbers: ER12-1926-002; ER20-370-001; ER21-1198-001.

Applicants: Union Atlantic Electricity, City Power & Gas, LLC, Pay Less Energy LLC.

Description: Notice of Change in Status of Union Atlantic Electricity, et al.

Filed Date: 7/15/21.

Accession Number: 20210715-5136.

Comments Due: 5 p.m. ET 8/5/21.

Docket Numbers: ER19-2722-005.

Applicants: PJM Interconnection, L.L.C.

Description: Compliance filing: Fast-Start Compliance to Set Effective Date to be effective 9/1/2021.

Filed Date: 7/16/21.

Accession Number: 20210716-5130.

Comments Due: 5 p.m. ET 8/6/21.

Docket Numbers: ER21-326-001.

Applicants: Direct Energy Business Marketing, LLC.

Description: Compliance filing: Supplemental Report Regarding a Spot Sale in WECC to be effective N/A.

Filed Date: 7/16/21.

Accession Number: 20210716-5135.

Comments Due: 5 p.m. ET 8/6/21.

Docket Numbers: ER21-1921-001.

Applicants: Citadel Energy Marketing LLC.

Description: Tariff Amendment: Amendment to 1 to be effective 5/18/2021.

Filed Date: 7/16/21.

Accession Number: 20210716-5038.

Comments Due: 5 p.m. ET 7/21/21.

Docket Numbers: ER21-2436-000.

Applicants: NorthWestern Corporation.

Description: § 205(d) Rate Filing: SA 924—Agreement with Tongue River Electric Cooperative (TRECO) to be effective 7/19/2021.

Filed Date: 7/16/21.

Accession Number: 20210716-5027.

Comments Due: 5 p.m. ET 8/6/21.

Docket Numbers: ER21-2437-000.

Applicants: Midcontinent Independent System Operator, Inc., American Transmission Company LLC.

Description: § 205(d) Rate Filing: 2021-07-16_SA 3675 ATC-Cloverland Electric PCA to be effective 9/15/2021.

Filed Date: 7/16/21.

Accession Number: 20210716-5032.

Comments Due: 5 p.m. ET 8/6/21.

Docket Numbers: ER21-2438-000.

Applicants: Southwest Power Pool, Inc.

Description: § 205(d) Rate Filing: 3630R1 Maverick Wind Project GIA to be effective 6/29/2021.

Filed Date: 7/16/21.

Accession Number: 20210716-5034.

Comments Due: 5 p.m. ET 8/6/21.

Docket Numbers: ER21-2439-000.

Applicants: Midcontinent Independent System Operator, Inc., American Transmission Company LLC.

Description: § 205(d) Rate Filing: 2021-07-16_SA 2770 ATC-Sun Prairie 1st Rev CFA to be effective 9/15/2021.

Filed Date: 7/16/21.

Accession Number: 20210716-5084.

Comments Due: 5 p.m. ET 8/6/21.

Docket Numbers: ER21-2440-000.

Applicants: PacifiCorp.

Description: § 205(d) Rate Filing: OATT Revised Attachment H-1 (Updates Form 1 Source References) to be effective 9/15/2021.

Filed Date: 7/16/21.

Accession Number: 20210716-5086.

Comments Due: 5 p.m. ET 8/6/21.

Docket Numbers: ER21-2441-000.

Applicants: In Commodities US LLC.

Description: Baseline eTariff Filing: Baseline new to be effective 8/1/2021.

Filed Date: 7/16/21.

Accession Number: 20210716-5113.

Comments Due: 5 p.m. ET 8/6/21.

Docket Numbers: ER21-2442-000.

Applicants: Morgan Stanley Capital Group Inc.

Description: Compliance filing: Compliance Cost Justification to be effective N/A.

Filed Date: 7/16/21.

Accession Number: 20210716-5118.

Comments Due: 5 p.m. ET 8/6/21.

Docket Numbers: ER21-2443-000.

Applicants: Black Hills Power, Inc.

Description: Compliance filing: Report Regarding a Sale Above The WECC Soft Price Cap to be effective N/A.

Filed Date: 7/16/21.

Accession Number: 20210716-5125.

Comments Due: 5 p.m. ET 8/6/21.

Docket Numbers: ER21-2444-000.

Applicants: PJM Interconnection, L.L.C.

Description: PJM Interconnection, L.L.C. submits Prospective Waiver of Certain Pre-Auction Deadlines Affected by the Default Market Seller Offer CAP.

Filed Date: 7/16/21.

Accession Number: 20210716-5128.

Comments Due: 5 p.m. ET 8/6/21.

Docket Numbers: ER21-2445-000.

Applicants: Glacier Sands Wind Power, LLC.

Description: Baseline eTariff Filing: Baseline new to be effective 7/17/2021.

Filed Date: 7/16/21.

Accession Number: 20210716-5129.

Comments Due: 5 p.m. ET 8/6/21.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 16, 2021.
Debbie-Anne A. Reese,
Deputy Secretary.

[FR Doc. 2021-15590 Filed 7-21-21; 8:45 am]

BILLING CODE 6717-01-P